DEPARTMENT OF DEFENSE

Department of the Army; Corps of Engineers

Intent To Prepare a Draft Environmental Impact Statement (DEIS) for the Revised Great Salt Lake Minerals Corporation's Solar Evaporation Pond Expansion Project Within the Great Salt Lake, Box Elder County, UT

AGENCY: Department of the Army; U.S. Army Corps of Engineers, DoD.

ACTION: Notice of intent.

SUMMARY: In accordance with the National Environmental Policy Act (NEPA), the U.S. Army Corps of Engineers—Sacramento District (Corps) will prepare an Environmental Impact Statement (EIS) for Corps authorization actions for the proposed Revised Great Salt Lake Minerals Corporation Solar Evaporation Ponds Expansion project. The basic project purpose is potassium sulfate extraction/mining. The overall project purpose is to increase production/output of organically certified potassium sulfate to help meet the increasing demand for this type of fertilize. The applicant believes there is a need to increase production of potassium sulfate in order to maintain its market share over the next 50 years.

The proposed expansion would add approximately 91,000 acres of solar evaporative ponds, impacting approximately 80,000 acres of waters of the United States, including wetlands, and reduce the need to import raw potassium from other sources. The EIS will address impacts such as wildlife habitat, water quality, Great Salt Lake water elevations, wetlands, hydrology, cultural resources, transportation, endangered species and industry. The projected date for public release of the Draft EIS is October 30, 2009.

DATES: Four public scoping meetings will be held. The first scoping meeting will be held on June 4, 2009 from 5-8 p.m. at the Davis County Library, 725 South Main Street, Bountiful, Utah. The second public meeting will be on June 9, 2009 from 5-8 p.m. at the Comfort Suites Hotel, 2250 South 1200 West, Ogden, Utah. The third meeting will be held on June 11, 2009, from 5-8 p.m. at West High School, 241 North 300 West, Salt Lake City, Utah. The fourth meeting will be held on June 24, 2009, from 5-8 p.m. also at West High School, 241 North 300 West, Salt Lake City, Utah.

ADDRESSES: Public comments will be accepted at the scoping meetings or may be mailed to Mr. Jason Gipson, Nevada-Utah Regulatory Branch, 533 West 2600 South, Suite 150, Bountiful, Utah 84010, or e-mailed to: jason.a.gipson@usace.army.mil. All comments must be received on or before July 9, 2009.

FOR FURTHER INFORMATION CONTACT: Questions about the proposed action and the DEIS should be directed to the Corps project manager, Mr. Jason Gipson at 801-295-8380 x14, or e-mail at jason.a.gipson@usace.army.mil. Please refer to identification number 200700121.

SUPPLEMENTARY INFORMATION: Great Salt Lake Minerals Corporation (GSL Minerals) currently operates approximately 47,000 acres of evaporative ponds located on the east and west shores of the Great Salt Lake. A 25,000-acre evaporation facility is located on the west shore of the North Arm of the Great Salt Lake and a 22,000-acre evaporation facility is located on the east shore of the Bear River Bay. The existing solar evaporation pond facilities are located within the Great Salt Lake, i.e., the ponds are located below 4205 feet mean sea level, which is below the high water mark of the Great Salt Lake. The company draws naturally occurring brine from the lake into shallow ponds and allows solar evaporation to produce sulfate of potash, as well as salt and magnesium chloride minerals. Sulfate of potash is a specialty fertilizer that improves the yield and quality of high-value crops such as fruits, vegetables, tea, tree nuts and turf grasses. The GSL Minerals facility has operated on the lake for 40 years.

The applicant originally proposed in late 2007 to construct three additional solar evaporation ponds totaling approximately 33,000 acres. The 2007 proposed project included adding two new solar ponds to the existing west side complex, an 18,000-acre Dolphin Island expansion pond and a 7,000-acre pond at the southern end of Clyman Bay between the Union Pacific Railway and several existing ponds. A new feed canal into the lake and a new pump station would be constructed on the north end of the proposed Dolphin Island pond. Diesel driven pumps, similar to those currently in use, would pump brine from the new feed canal to the new pond. Existing pumps would be used to pump brine from the new pond to an existing pond. The total 25,000-acre pond expansion on the west side would increase the concentration of brine transferred to an existing gravity-flow trench for transport to the east ponds in the Bear River Bay. Additionally under the 2007 proposal, an 8,000-acre pond would be constructed on the east side of the Great Salt Lake in the Bear River Bay. Brine would be pumped to and from the new pond with existing pump stations; however, the capacity of these pump stations would be increased proportional to the new pond acreage. Additional feed brine for this new pond would come from the North Arm of the Great Salt Lake (Gunnison Bay), flowing through existing east side ponds.

Under the 2007 proposal, dikes would be built to accommodate the pond expansion and impound the waters of the respective areas. On the east side of the lake, approximately 540,000 cubic yards of fill would be discharged into Bear River Bay to create the dikes. On the west side, approximately 900,000 cubic yards of fill would be discharged into open water in the vicinity of Clyman Bay to create dikes.

The 2009 revised project proposes to: (1) Retain the proposed construction of an 8,000-acre pond in Bear River Bay, (2) decrease the previously proposed 8,000 acre pond on the west shore of the lake along the north side of the railroad causeway to 6,000 acres, (3) increase the 18,000-acre pond to 23,000 acres, (4) add an additional 2,000-acre pond west of the above described 6,000-acre pond along the north side of the railroad causeway, (5) add a 14,000-acre pond on the south side of the railroad causeway, and (6) add an additional 38,000-acre pond in the Dolphin Island area of the lake. On the east side of the lake, approximately 540,000 cubic yards of fill would be discharged into Bear River Bay to create the dikes. On the west side, approximately 4.7 million cubic yards of fill would be discharged into open water in the vicinity of Clyman Bay to create dikes.

The total 83,000-acre West Pond Expansion (including Lakeside Lease areas) would increase the concentration of brine transferred to an existing gravity-flow trench (Behrens Trench) for transport to the GSL Minerals east solar evaporation ponds in the Bear River Bay (Figures 1, 2 and 3). Ultimately as part of the proposed project the efficiency of the Behrens Trench would be improved to reduce mixing of concentrated brine with lake water surrounding the trench by either improving the existing open Behrens Trench by excavating the trench wider and deeper or by laying pipes in the existing trench.

In addition the project includes the purchasing and transporting SOP from the U.S. Magnesium ponds located along the southwestern margin of the lake to the existing processing facility. GSL Minerals will also increase SOP production by constructing an SOP processing plant within the U.S. Magnesium pond area (Figure 4).

The proposed project habitat areas include saline open water, sporadically inundated playa lakebed, seasonally flooded playa, saline wetlands, potential freshwater springs, rip-rapped dikes and sandy upland habitats. These areas are located adjacent and to the north of the existing evaporation pond facilities. The Corps verified a jurisdictional wetland delineation for the 2007 proposed project on October 10, 2007, which identified approximately 34,180.08 acres of waters of the U.S., including 21.4 acres of saline wet meadow wetlands, 1,102.94 acres of seasonally inundated playa above the high water mark of the western side of the Great Salt Lake and 33,055.74 acres of seasonally or sporadically inundated playa lake bed below the high water mark of the Lake. A delineation of waters of the U.S. has not been completed or verified for the additional areas proposed under the 2009 revised application. However, it is estimated the additional 50,000 acres are all located within the ordinary high water mark of the Great Salt Lake, resulting in the same acreage of additional impacts to waters of the U.S. The proposed project would result in approximately 80,000 acres of permanent adverse impacts to waters.

The applicant has not proposed compensatory mitigation for project impacts. The determination of appropriate compensatory mitigation will be determined through public scoping and impact analysis of the EIS process.

The proposed project will not affect any federally-listed threatened or endangered species, however, it may affect state-listed special status species. Once a habitat assessment of the areas has been completed, the Corps will consult with state and Federal wildlife agencies. The Corps will also consult with the State Historic Preservation Officer under Section 106 of the National Historic Preservation Act for properties listed or potentially eligible for listing on the National Register of Historic Places, as appropriate.

A number of on-site and off-site alternatives, including the no action alternative, will be evaluated in the DEIS in accordance with NEPA and the Section 404(b)(1) guidelines.

As part of the Corps 404 permitting process, pre-application interagency meetings have been held to provide information and identify issues and concerns. In addition, meetings have been held with local environmental organizations for the same purposes. Preliminary issues identified as part of this process include: Water quality, heavy metals, nutrient loading, fresh water exchange, changes in salinity, and brine shrimp habitat, economic issues and cultural resources. Additionally, potential avian impacts were identified to waterfowl, shorebirds, and raptors including the American white pelican, snowy plover, Canada goose, and others.

The above determinations are based on information provided by the applicant and upon the Corps' preliminary review. The Corps is soliciting verbal and written comments from the public, Federal, state and local agencies and officials, Native American tribes, and other interested parties in order to consider and evaluate the impacts of this proposed activity. The Corps' public involvement program includes multiple opportunities for interested parties to provide written and oral comments. Affected Federal, state, local agencies, Indian tribes, and other interested private organizations and the general public are invited to participate.

Brenda S. Bowen,
Army Federal Register Liaison Officer.

[FR Doc. E9-13437 Filed 6-9-09; 8:45 am]

BILLING CODE 3720-58-P